ENVIRONMENTAL PROTECTION AGENCY

[FRL-7463-6]

Notice of Proposed Administrative Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement concerning the Louisiana Oil Recycle & Reuse, Baton Rouge, Louisiana, with the parties referenced in the Supplementary Information portion of this Notice.

The settlement requires the settling major parties to pay a total of $163,974.14 as payment of past response costs to the Hazardous Substances Superfund. The settlement includes a covenant not to sue pursuant to sections 106 and 107 of CERCLA, 42 U.S.C. 9606 and 9607.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before April 10, 2003.

ADDRESSES: The proposed settlement and additional background information relating to the settlement are available for public inspection at 1445 Ross Avenue, Dallas, Texas 75202-2733. A copy of the proposed settlement may be obtained from Janice Bivens, 1445 Ross Avenue, Dallas, Texas 75202-2733 at (214) 665-6717. Comments should reference Louisiana Oil Recycle & Reuse Superfund Site, Baton Rouge, Louisiana, EPA Docket Number 06-03-02 and should be addressed to Janice Bivens at the address listed above.

FOR FURTHER INFORMATION CONTACT: Amy McGee, 1445 Ross Avenue, Dallas, Texas 75202-2733 at (214) 665-8063.

Dated: March 3, 2003.
Samuel Coleman,
Acting Regional Administrator, Region 4. Deputy

Appendix A—List of Settling Parties

1. International Paper Company

2. Gulf States Marine (Boasso International)

3. West Lake Polymers

4. Mississippi Marine Corporation f/n/a Greenville Johnny of Louisiana, Inc.

5. T&T Barge Cleaning, Inc.

6. Castrol, Inc.

7. Sabine Manufacturing

8. United States Defense Logistics Agency/Defense Reutilization and Marketing Service

[FR Doc. 03-5749 Filed 3-10-03; 8:45 am]

BILLING CODE 6560-50-P